DEPARTMENT OF COMMERCE

National Oceanic and Atmospheric Administration

RIN 0648-XQ11

Bering Sea and Aleutian Islands Crab Rationalization Program

AGENCY: Alaska Fishery Science Center (AFSC), National Marine Fisheries Service (NMFS), National Oceanic and Atmospheric Administration (NOAA), Commerce.

ACTION: Notice of a public workshop.

SUMMARY: NMFS will hold a workshop for participants in the Bering Sea and Aleutian Islands Crab Rationalization Program who are required to submit a crab Economic Data Report.

DATES: The workshop will be held on Friday, July 17, 2009, from 9:00 a.m. to 5:00 p.m. Pacific standard time.

ADDRESSES: The workshop will be held at the Pacific Seafood Processors Association office Conference Room, 1900 W. Emerson Place, Number 205, Seattle, WA 98119.

FOR FURTHER INFORMATION CONTACT: Dr. Brian Garber-Yonts, AFSC, 206-526-6301 or Steven K. Minor at 360-440-4737.

SUPPLEMENTARY INFORMATION: NMFS Alaska Fishery Science Center staff and the Pacific Northwest Crab Industry Advisory Committee are holding a workshop for Crab Rationalization Program fishing industry members to review, discuss, and comment on draft revised crab economic data report (EDR) forms to improve the quality of information collected in the Bering Sea and Aleutian Islands Crab Rationalization Program. The revised EDRs are intended to address critical data quality limitations resulting from the design of the existing forms. The workshop is intended to ensure that NMFS receives consistent and accurate information. Participation from individuals involved in completing the EDR forms is important. This workshop is part of a process to respond to the North Pacific Fisheries Management Council's Crab Rationalization Program economic data collection requirements. The workshop discussion also will address “Best Practices” recommendations for recordkeeping and data validation documentation issued by the EDR auditor.

This is NOT a committee meeting or a presentation or discussion of any analysis. It is a workshop for industry input on EDR forms. It is open to the public and any interested stakeholders.

Copies of the draft revised EDR forms and other relevant documents can be downloaded from the NMFS Alaska Regions BSAI CRAB EDR website at:

http://www.fakr.noaa.gov/sustainablefisheries/crab/rat/edr/default.htm

This workshop is physically accessible to people with disabilities. Requests for special accommodations should be directed to Brian Garber-Yonts (see FOR FURTHER INFORMATION CONTACT) by DATE.

Dated: June 29, 2009.
Alan D. Risenhoover,
Director, Office of Sustainable Fisheries, National Marine Fisheries Service.

[FR Doc. E9-15848 Filed 7-2-09; 8:45 am]

BILLING CODE 3510-22-S